DEPARTMENT OF TRANSPORTATION

Surface Transportation Board

[STB Finance Docket No. 34546]

Western Rail Switching, Incorporated—Operation Exemption—Rail Line of Spokane County, WA

Western Rail Switching, Incorporated (WRS), a noncarrier, has filed a verified notice of exemption under 49 CFR 1150.31 to operate, pursuant to an agreement with the county of Spokane, WA (the County), 4.93 miles of a line of railroad known as the Geiger Spur. The line extends from a point of connection with The Burlington Northern and Santa Fe Railway Company's (BNSF) line at milepost 0.00 near Fairchild Air Force Base (also known as milepost 1493.95 on BNSF's Columbia River Subdivision) to milepost 4.93 on the Geiger Spur line near Airway Heights, in Spokane County, WA.

The transaction was scheduled to be consummated on or after September 10, 2004.

This transaction is related to STB Finance Docket No. 34541, Spokane County—Acquisition Exemption—The Burlington Northern and Santa Fe Railway Company, wherein the County has filed a verified notice of exemption for its acquisition of the 4.93-mile line of railroad from BNSF.

If the verified notice contains false or misleading information, the exemption is void ab initio. Petitions to revoke the exemption under 49 U.S.C. 10502(d) may be filed at any time. The filing of a petition to revoke will not automatically stay the transaction.

An original and 10 copies of all pleadings, referring to STB Finance Docket No. 34546, must be filed with the Surface Transportation Board, 1925 K Street, NW., Washington, DC 20423-0001. In addition, a copy of each pleading must be served on Thomas F. McFarland, P.C., 208 South LaSalle Street, Suite 1890, Chicago, IL 60604-1112.

Board decisions and notices are available on our Web-site at “http://www.stb.dot.gov.”

Decided: September 24, 2004.
By the Board, David M. Konschnik, Director, Office of Proceedings.
Vernon A. Williams,
Secretary.

[FR Doc. 04-22092 Filed 9-30-04; 8:45 am]

BILLING CODE 4915-01-P